DEPARTMENT OF COMMERCE

National Oceanic and Atmospheric Administration

Proposed Information Collection; Comment Request; Survey of Coastal Managers To Assess Needs for Ecological Forecasts

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 6, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Elizabeth Turner (603) 862-4680 or Elizabeth.Turner@noaa.gov.

SUPPLEMENTARY INFORMATION:

I. Abstract

This request is for a new survey of coastal managers to determine their needs and potential uses for ecological forecasts or scenarios. Coastal managers would be staff from state agencies who deal with issues such as coastal water quality and habitat management. The survey will be conducted under a cooperative agreement between the NOAA National Centers for Coastal Ocean Science (NCCOS) and HDR, Inc., an environmental consulting firm. NOAA has a long history of conducting operational modeling and forecasting, mostly in the National Weather Service for weather and climate and the National Ocean Service for tides and currents. Expanding this capacity to include forecasting of ecological trends and conditions can be critical to many coastal management applications. This survey will help to assess coastal managers' needs for ecological forecasts and scenarios, and how such forecasts may be used in management contexts.

II. Method of Collection

Coastal managers will be emailed a link to an internet survey. The survey will be a one-time needs assessment, and will not be repeated on a regular basis.

III. Data

OMB Control Number: None.

Form Number: None.

Type of Review: Regular submission (request for a new information collection).

Affected Public: Not-for-profit institutions; state, local, or tribal governments; business or other for-profit organizations.

Estimated Number of Respondents: 100.

Estimated Time Per Response: 20 minutes.

Estimated Total Annual Burden Hours: 33.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 4, 2013.
Gwellnar Banks,
Management Analyst, Office of the Chief Information Officer.

[FR Doc. 2013-05325 Filed 3-6-13; 8:45 am]

BILLING CODE 3510-JS-P